DEPARTMENT OF HEALTH AND HUMAN SERVICES

Substance Abuse and Mental Health Services Administration

Notice of Meeting

Pursuant to Public Law 92-463, notice is hereby given that the Substance Abuse and Mental Health Services Administration's (SAMHSA) Center for Substance Abuse Prevention's (CSAP) Drug Testing Advisory Board (DTAB) will convene via web conference on September 1st, 2020, from 10:00 a.m. EDT to 5:30 p.m. EDT.

The board will meet in open-session September 1st, 2020, from 10:00 a.m. EDT to 1:00 p.m. EDT to discuss the Mandatory Guidelines for Federal Workplace Drug Testing Programs with updates from the Department of Transportation and the Nuclear Regulatory Commission. Other discussion topic include an update on marijuana studies and efforts. The board will meet in closed-session on September 1st, 2020, from 2:00 p.m. EDT to 5:30 p.m. EDT to discuss confidential issues surrounding the proposed Mandatory Guidelines for Federal Workplace Drug Testing Programs (hair), preliminary and unpublished studies from the Johns Hopkins University Behavioral Pharmacology Research Unit (BPRU), additional drugs (fentanyl and methadone) that may be tested for in the future, and lastly, emerging issues on marijuana. Therefore, the portion of the meeting on September 1st, 2020, from 2:00 p.m. EDT to 5:30 p.m. EDT, is closed to the public, as determined by the Assistant Secretary for Mental Health and Substance Use, SAMHSA, in accordance with 5 U.S.C. 552b(c)(4) and (9)(B), and 5 U.S.C. App. 2, Section 10(d).

Meeting registration information can be completed at http://snacregister.samhsa.gov/MeetingList.aspx. Web conference and call information will be sent after completing registration. Meeting information and a roster of DTAB members may be obtained by accessing the SAMHSA Advisory Committees website, https://www.samhsa.gov/about-us/advisory-councils/meetings or by contacting the Designated Federal Officer, Jennifer Fan.

Committee Name: Substance Abuse and Mental Health Services Administration, Center for Substance Abuse Prevention, Drug Testing Advisory Board.

Dates/Time/Type: September 1, 2020, from 10:00 a.m. to 1:00 p.m. EDT: OPEN. September 1, 2020, from 2:00 p.m. to 5:30 p.m. EDT: CLOSED.

Place: Substance Abuse and Mental Health Services Administration, 5600 Fishers Lane, Rockville, MD 20857.

Contact: Jennifer Fan, Senior Pharmacist, Center for Substance Abuse Prevention, 5600 Fishers Lane, Room 16N06D, Rockville, Maryland 20857, Telephone: (240) 276-1759, Email: jennifer.fan@samhsa.hhs.gov.

Anastasia Marie Donovan,
Policy Analyst.

[FR Doc. 2020-17789 Filed 8-13-20; 8:45 am]

BILLING CODE 4162-20-P